DEPARTMENT OF THE INTERIOR

Fish and Wildlife Service

[FWS-R4-ES-2011-N124; 40120-1112-0000-F2]

Incidental Take Permits and Joint Environmental Assessment for Four Single Family Residences in Escambia County, FL

AGENCY: Fish and Wildlife Service, Interior.

ACTION: Notice.

SUMMARY: Under the Endangered Species Act (Act), we, the U.S. Fish and Wildlife Service, announce the receipt and availability of four proposed habitat conservation plans (HCPs) and accompanying documents for four independently proposed developments. The take would involve the Federally endangered Perdido Key beach mouse (Peromyscus polionotus trissyllepsis) on Perdido Key in Escambia County, Florida. Each HCP analyzes the take incidental to construction and occupation of four single-family residences (Projects). We invite public comments on these documents.

DATES: We must receive any written comments at our Regional Office (see ADDRESSES) on or before September 12, 2011.

ADDRESSES: Documents are available for public inspection by appointment during normal business hours at the Fish and Wildlife Service's Regional Office, 1875 Century Boulevard, Suite 200, Atlanta, GA 30345; or Field Supervisor, Fish and Wildlife Service, 1601 Balboa Avenue, Panama City, FL 32405.

FOR FURTHER INFORMATION CONTACT: Mr. David Dell, Regional HCP Coordinator, (see ADDRESSES), telephone: 404/679-7313; or Mr. Ben Frater, Field Office Project Manager, at the Panama City Field Office (see ADDRESSES), telephone: 850/769-0552, ext. 248.

SUPPLEMENTARY INFORMATION: We announce the availability of four proposed HCPs, accompanying incidental take permit (ITP) applications, and a joint environmental assessment (EA), which analyze the take of the Perdido Key beach mouse incidental to each of the four planned Projects. Patrick and Cheryl Whalen, Larry K. and Dianna Evans, Christopher Carbone, and Scott Stern (Applicants) each request a 30-year ITP under section 10(a)(1)(B) of the Act (16 U.S.C. 1531 et seq.), as amended. The Applicants' HCPs describe the mitigation and minimization measures proposed to address the effects on the species.

We specifically request information, views, and opinions from the public via this notice on our proposed Federal action, including identification of any other aspects of the human environment not already identified in the EA pursuant to National Environmental Policy Act (NEPA) regulations in the Code of Federal Regulations (CFR) at 40 CFR 1506.6. Further, we specifically solicit information regarding the adequacy of the HCPs per 50 CFR Parts 13 and 17.

An assessment of the likely environmental impacts associated with the implementation of the Applicants' HCPs, the EA considers the environmental consequences of the no-action alternative and the proposed action. The proposed action alternative is issuance of the ITPs and implementation of the HCPs as submitted by the Applicants. Each of the four HCPs covers activities associated with the construction and occupancy of a single-family residence. Avoidance, minimization and mitigation measures include a reduced design footprint, on-site land management to maintain use of the site by Perdido Key beach mice, and funding off-site habitat acquisition and management.

Public Comments

Before including your address, phone number, e-mail address, or other personal identifying information in your comment, you should be aware that your entire comment—including your personal identifying information—may be made publicly available at any time. While you can ask us in your comment to withhold your personal identifying information from public review, we cannot guarantee that we will be able to do so.

If you wish to comment, you may submit comments by any one of several methods. Please reference TE17700A-0, TE17698A-0, TE43105A-0, or TE17697A-0 in such comments. You may mail comments to the Fish and Wildlife Service's Regional Office (see ADDRESSES). You may also comment via the internet to david_dell@fws.gov. Please include your name and return address in your internet message. If you do not receive a confirmation from us that we have received your internet message, contact us directly at either telephone number listed under FOR FURTHER INFORMATION CONTACT.

Finally, you may hand-deliver comments to either of our offices listed under ADDRESSES.

Covered Area

Perdido Key, a barrier island 16.9 miles long, constitutes the entire historic range of the Perdido Key beach mouse. The areas encompassed by the HCPs and ITP applications are 1.26-acre (Whalen) and 1.29-acre (Evans) parcels located on the Gulf of Mexico on the central portion of Perdido Key, a 0.13-acre landlocked parcel (Stern) on the eastern portion of Perdido Key, and a 0.16-acre landlocked parcel (Carbone) on the central portion of Perdido Key.

Next Steps

We will evaluate each of these ITP applications, including the HCPs and any comments we receive, to determine whether these applications meet the requirements of section 10(a)(1)(B) of the Act. We will also evaluate whether issuance of each section 10(a)(1)(B) ITP complies with section 7 of the Act by conducting an intra-Service section 7 consultation on each action. We will consider the results of each consultation, in combination with the above findings, in our final analysis to determine whether or not to issue each ITP. If we determine that the requirements are met, we will issue the ITPs for the incidental take of the Perdido Key beach mouse.

Authority: We provide this notice under section 10 of the Act (16 U.S.C. 1531 et seq.) and NEPA regulations (40 CFR 1506.6).

Dated: June 15, 2011.
Mark J. Musaus,
Acting Regional Director.

[FR Doc. 2011-17578 Filed 7-12-11; 8:45 am]

BILLING CODE 4310-55-P